DEPARTMENT OF COMMERCE

National Oceanic and Atmospheric Administration

[RTID 0648-XB303]

Marine Mammals; File No. 25563

AGENCY: National Marine Fisheries Service (NMFS), National Oceanic and Atmospheric Administration (NOAA), Commerce.

ACTION: Notice; receipt of application.

SUMMARY: Notice is hereby given that the NMFS Alaska Fisheries Science Center, Marine Mammal Laboratory, 7600 Sand Point Way NE, Seattle, WA 98115 (Responsible Party: John Bengtson), has applied in due form for a permit to conduct research on 20 species of marine mammals.

DATES: Written, telefaxed, or email comments must be received on or before September 8, 2021.

ADDRESSES: The application and related documents are available for review by selecting “Records Open for Public Comment” from the “Features” box on the Applications and Permits for Protected Species (APPS) home page, https://apps.nmfs.noaa.gov, and then selecting File No. 25563 from the list of available applications. These documents are also available upon written request via email to NMFS.Pr1Comments@noaa.gov.

Written comments on this application should be submitted via email to NMFS.Pr1Comments@noaa.gov. Please include File No. 25563 in the subject line of the email comment.

Those individuals requesting a public hearing should submit a written request via email to NMFS.Pr1Comments@noaa.gov. The request should set forth the specific reasons why a hearing on this application would be appropriate.

FOR FURTHER INFORMATION CONTACT: Amy Hapeman or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to monitor cetacean population trends, abundance, distribution, and health in the North Pacific Ocean, the Bering, Beaufort, and Chukchi Seas, and Gulf of Maine. Researchers would study 20 species of cetaceans including endangered and threatened blue (Balaenoptera musculus), bowhead (Balaena mysticetus), Cook Inlet beluga (Delphinapterus leucas), fin (Balaenoptera physalus), gray (Eschrichtius robustus), humpback (Megaptera novaeangliae), North Pacific right (Eubalaena japonica), sei (Balaenoptera borealis), Southern Resident killer (Orcinus orca), and sperm (Physeter macrocephalus) whales. Researchers would conduct vessel and aerial (crewed and uncrewed) surveys for observations, counts, photography/videography (underwater, topside, and aerial), photogrammetry, photo-identification, biological sampling (exhaled air, feces, blubber and skin, sloughed skin, eDNA, and prey remains), invasive and non-invasive tagging, and active acoustics. Biological samples collected on the high seas would be imported to the United States. Up to nine species of pinnipeds could be unintentionally harassed during surveys. See the take tables for specific numbers and life stages requested for each species. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 3, 2021.
Amy Sloan,
Acting Chief, Permits and Conservation Division, Office of Protected Resources, National Marine Fisheries Service.

[FR Doc. 2021-16931 Filed 8-6-21; 8:45 am]

BILLING CODE 3510-22-P